DEPARTMENT OF TRANSPORTATION

Federal Aviation Administration

[Docket No. FAA-2019-0333]

Agency Information Collection Activities: Requests for Comments; Clearance of Renewed Approval of Information Collection: Small Unmanned Aircraft Registration System (sUAS)

AGENCY: Federal Aviation Administration (FAA), DOT.

ACTION: Notice and request for comments.

SUMMARY: In accordance with the Paperwork Reduction Act of 1995, FAA invites public comments about our intention to request Office of Management and Budget (OMB) renewal approval for information collection 2120-0765. Aircraft registration is necessary to ensure personal accountability among all users of the national airspace system. Aircraft registration also allows the FAA and law enforcement agencies to address non-compliance by providing the means for identifying an aircraft's owner and operator. This collection also permits individuals to de-register or update their record in the registration database.

DATES: Written comments should be submitted by September 23, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202)395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Bonnie Lefko at: bonnie.lefko@faa.gov; or by phone: 405-954-7461.

SUPPLEMENTARY INFORMATION:

OMB Control Number: 2120-0765.

Title: Small Unmanned Aircraft Registration System (sUAS).

Form Numbers: None.

Type of Review: Renewal of existing collection.

Background: The Federal Register Notice with a 60-day comment period soliciting comments on the following collection of information was published on May 9, 2019 (84 FR 20460). There were three comments received. The FAA received two comments in support from EPIC and A4A. EPIC's further recommendations related to broadcasting location are beyond the scope and authority of what is proposed in this information collection. Another comment was received correcting the FAA's statutory citation, which the FAA acknowledges and has updated in the 30 day notice. The Secretary of the Department of Transportation (DOT) and the Administrator of the Federal Aviation Administration (FAA) affirmed that all unmanned aircraft, including model aircraft, are aircraft. As such, in accordance with 49 U.S.C. 44101(a) and as further prescribed in 14 CFR part 48, registration is required prior to operation. See 80 FR 63912, 63913 (October 22, 2015). Aircraft registration is necessary to ensure personal accountability among all users of the national airspace system. Aircraft registration also allows the FAA and law enforcement agencies to address non-compliance by providing the means for identifying an aircraft's owner and operator.

Subject to certain exceptions discussed below, aircraft must be registered prior to operation. See 49 U.S.C. 44101-44103. Upon registration, the Administrator must issue a certificate of registration to the aircraft owner. See 49 U.S.C. 44103.

Registration, however, does not provide the authority to operate. Persons intending to operate a small unmanned aircraft must operate in accordance with section the FAA Reauthorization Act of 2018 Section 349 (49 U.S.C. 44809), part 107 or part 91, in accordance with a waiver issued under part 107, in accordance with an exemption issued under 14 CFR part 11 (including those persons operating under an exemption issued pursuant to 49 U.S.C. 44807), or in conjunction with the issuance of a special airworthiness certificate, and are required to register. In the agency's 60 day notice, the number of minutes required to register was inadvertently stated as 10 minutes. The number, consistent with our past information collection supporting statements, is 5 minutes, which is reflected in this notice. There is no change to the annual burden.

Respondents: Approximately 300,000 affected sUAS registrations and 14,000 de-registrations annually.

Frequency: Information is collected on occasion.

Estimated Average Burden per Response: 5 minutes per response to register and 3 minutes per response to de-register.

Estimated Total Annual Burden: Approximately 51,000 hours.

Issued in Oklahoma City, OK, on August 19, 2019.
Bonnie Lefko,
Program Analyst, FAA, Civil Aviation Registry, AFB-700.

[FR Doc. 2019-18139 Filed 8-21-19; 8:45 am]

BILLING CODE 4910-13-P